DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: State and Local Government Finance Forms.

OMB Control Number: 0607-0585.

Form Number(s): F-5, F-11, F-12, F-12(S), F-13, F-28, F-29, F-32.

Type of Request: Revision of a currently approved collection.

Number of Respondents: 13,135.

Average Hours per Response: 2 hours and 45 minutes.

Burden Hours: 36,377.

Needs and Uses: The Annual Surveys of State and Local Government Finances collect data on state government finances and estimates of local government revenue, expenditure, debt, assets, and pension systems nationally and within state areas. The surveys include the Annual Survey of State Government Tax Collections, Annual Survey of State Government Finances, the Annual Survey of Local Government Finances, and the Annual Survey of Public Pensions. Data are collected for all agencies, departments, and institutions of the fifty state governments and for a sample of all local governments (counties, municipalities, townships, and special districts). This program is the only known comprehensive source of state and local government finance data collected on a nationwide scale using uniform definitions, concepts, and procedures.

The questionnaires for collecting the Annual Surveys of State and Local Government Finances are described below.

Form F-5. State governments provide detailed data on their tax collections. Much of this detail is not available in the state's primary source document.

Forms F-11, F12, and F-12(S). State and local government pension systems provide data on their receipts, payments, assets, membership, and beneficiaries.

Forms F-13. State agencies provide data not included in the audits, electronic files and other primary sources the Census Bureau uses to compile state government financial data. Form F-13 is used to collect data from state insurance trust systems.

Form F-28. Counties, cities, and townships provide data on revenues, expenditures, debt, and assets.

Form F-29. Multi-function special district governments provide data on revenues, expenditures, debt, and assets.

Form F-32. Single-function special district governments and dependent agencies of local governments provide data on revenues, expenditures, debt and assets.

There are no significant planned revisions to the forms listed above. Form F-25 is being eliminated as state agency data are collected under state data arrangements. Form F-42, which collects data on school building authorities, is also being eliminated. School building authority data will now be collected on the F-32 or F-29 form.

Data are also gathered using means outside of a traditional form canvass. The Census Bureau also collects data through arrangements with state governments, central collection arrangements with local governments, supplemental data letters, and using electronic reporting instruments.

In addition, there will be a canvass of local government public employee pension systems in 2014 to address a potential under coverage of these systems. The canvass will include a letter requesting contact information, membership, payments, and cash and investments for the defined benefit plan.

In contrast to the previous submission, this submission only includes data collected in the annual sample years of 2014-2016. The last submission included data collected during the Census of Governments which occurs only in years ending in `2' and `7' and includes a full canvass of all state and non-school local governments. Accordingly, the requested burden hours will be substantially less than the previous submission.

The Census Bureau incorporates the data collected on these forms into its governmental finance program. This program has facilitated the dissemination of comprehensive and comparable governmental finance statistics since 1902.

Beginning with the 1993 annual data series, all data, summary tables, and files have been released on the Internet. At the Internet site, (www.census.gov/govs/) users will find documentation, summary tables and files.

These data are widely used by Federal, state, and local legislators, policy makers, analysts, economists, and researchers to follow the changing characteristics of the government sector of the economy. The data are also widely used by the media and academia.

The Census Bureau provides its state and local government finance data annually to the Bureau of Economic Analysis (BEA) for use in measuring and developing estimates of the government sector of the economy in the National Income and Product Accounts. The Census Bureau also provides these data to the Federal Reserve Board for constructing the Flow of Funds Accounts.

In addition, the data are used by the Bureau of Justice Statistics, Centers for Medicare and Medicaid Services, Council of Economic Advisors, Government Accountability Office, National Center for Education Statistics, and the National Science Foundation.

Discontinuing the state and local government finance program would create a large gap in economic statistics for the government sector, making it impossible for the BEA to calculate the government sector of the National Income and Product Accounts. It would also eliminate a key source of data needed by the Federal Reserve Board. Additionally, the state and local government data are also needed as inputs into the Justice Expenditure and Employment Extract Series, produced by the Bureau of Justice Statistics, and the National Health Expenditure Accounts produced by the Centers for Medicare and Medicaid Services. The data are also published annually in the Digest of Education Statistics produced by National Center for Education Statistics, the Economic Report of the President produced by the Council of Economic Advisors, and the source data are used as input into the State and Local Governments Fiscal Outlook published by the Government Accountability Office. In addition, the data are used by the National Science Foundation as inputs into the State government R&D expenditures.

In recent years, state and local government financial information has garnered significant media attention and policy coverage. As such, timely state and local government finance data are critical in light of current financial conditions of state and local governments, as they provide insight into the complex nature and fiscal health of state and local government finances.

Affected Public: State, local or Tribal Government.

Frequency: Annually.

Respondent's Obligation: Voluntary.

Legal Authority: Title 13, Section 161, of the United States Code requires the Secretary of Commerce to conduct a census of governments every fifth year. Section 182 allows the Secretary to conduct annual surveys in other years. These authorizations include, but are not limited to, collecting and disseminating, “data on taxes . . . governmental receipts, expenditures, indebtedness . . . of states, counties, cities and other governmental units.”

This information collection request may be viewed at www.reginfo.gov. Follow the instructions to view Department of Commerce collections currently under review by OMB.

Written comments and recommendations for the proposed information collection should be sent within 30 days of publication of this notice to OIRA_Submission@omb.eop.gov or fax to (202)395-5806.

Dated: July 30, 2014.
Glenna Mickelson,
Management Analyst, Office of the Chief Information Officer.

[FR Doc. 2014-18411 Filed 8-4-14; 8:45 am]

BILLING CODE 3510-07-P